DEPARTMENT OF COMMERCE

National Institute of Standards and Technology

Manufacturing Extension Partnership (MEP) Advisory Board

AGENCY: National Institute of Standards and Technology, Department of Commerce.

ACTION: Request for nominations of members to serve on the Manufacturing Extension Partnership (MEP) Advisory Board.

SUMMARY: NIST invites and requests nomination of individuals for appointment to the Manufacturing Extension Partnership (MEP) Advisory Board. NIST will consider nominations received in response to this notice for appointment to the MEP Advisory Board, in addition to nominations already received.

DATES: To be considered for the initial MEP Advisory Board, please submit nominations on or before March 27, 2008. After that date, nominations will be accepted on an ongoing basis and will be considered as and when vacancies arise.

ADDRESSES: Please submit nominations to Ms. Karen Lellock, National Institute of Standards and Technology, 100 Bureau Drive, Mail Stop 4800, Gaithersburg, MD 20899-4800. Nominations may also be submitted via Fax to 301-963-6556.

Additional information regarding the Board, including its charter may be found on its electronic home page at: http://www.mep.nist.gov/about-mep/mep-advisory-board.htm.

FOR FURTHER INFORMATION CONTACT: Ms. Karen Lellock, National Institute of Standards and Technology, 100 Bureau Drive, Mail Stop 4800, Gaithersburg, MD 20899-4800; telephone 301-975-4269, fax 301-963-6556; or via e-mail at karen.lellock@nist.gov.

SUPPLEMENTARY INFORMATION: The Board will advise the Director of the National Institute of Standards and Technology (NIST) on MEP programs, plans, and policies, assess the soundness of MEP plans and strategies, and assess current performance against MEP program plans.

The Board will consist of ten individuals appointed by the Director of the National Institute of Standards and Technology (NIST) and broadly representing stakeholders.

The Board will function solely as an advisory body, in compliance with the provisions of the Federal Advisory Committee Act.

Authority: 15 U.S.C. 278k(e), as amended by the America COMPETES Act (Pub. L. 110-69); Federal Advisory Committee Act: 5 U.S.C. App. 2.

Dated: March 5, 2008.
Richard F. Kayser,
Acting Deputy Director.

[FR Doc. E8-4878 Filed 3-11-08; 8:45 am]

BILLING CODE 3510-13-P